DEPARTMENT OF COMMERCE

International Trade Administration

[C-489-838, C-533-890]

Certain Quartz Surface Products From India and the Republic of Turkey: Postponement of Preliminary Determinations in the Countervailing Duty Investigations

AGENCY: Enforcement and Compliance, International Trade Administration, Department of Commerce.

DATES: Applicable July 3, 2019.

FOR FURTHER INFORMATION CONTACT: Kristen Johnson at (202) 482-4793 (India), or Stephanie Berger at (202) 482-2483 (Republic of Turkey (Turkey)), AD/CVD Operations, Office III, Enforcement and Compliance, International Trade Administration, U.S. Department of Commerce, 1401 Constitution Avenue NW, Washington, DC 20230.

SUPPLEMENTARY INFORMATION:

Background

On May 28, 2019, the Department of Commerce (Commerce) initiated countervailing duty (CVD) investigations of imports of certain quartz surface products from India and Turkey.¹ Currently, the preliminary determinations are due no later than August 1, 2019.

¹ See Certain Quartz Surface Products from India and the Republic of Turkey: Initiation of Countervailing Duty Investigations, 84 FR 25524 (June 3, 2019).

Postponement of Preliminary Determinations

Section 703(b)(1) of the Tariff Act of 1930, as amended (the Act), requires Commerce to issue the preliminary determination in a CVD investigation within 65 days after the date on which Commerce initiated the investigation. However, section 703(c)(1)(A) of the Act permits Commerce to postpone the preliminary determination until no later than 130 days after the date on which Commerce initiated the investigation if the petitioner makes a timely request for a postponement. Under 19 CFR 351.205(e), the petitioner must submit a request for postponement 25 days or more before the scheduled date of the preliminary determination and must state the reasons for the request. Commerce will grant the request unless it finds compelling reasons to deny the request.

On June 20, 2019, the petitioner ² submitted timely requests, pursuant to section 703(c)(1)(A) of the Act and 19 CFR 351.205(e), to fully postpone the preliminary determinations.³ The petitioner stated that it requests postponement to provide Commerce with time to fully analyze the respondents' questionnaire responses and allow it to identify and allege any additional subsidy benefits not addressed in the petitions.⁴

² The petitioner is Cambria Company LLC.

³ See Letters from the petitioner, “Certain Quartz Surface Products from India: Request to Postpone Preliminary Determination,” dated June 20, 2019; and “Certain Quartz Surface Products from the Republic of Turkey: Request to Postpone Preliminary Determination,” dated June 20, 2019.

⁴ Id.

In accordance with 19 CFR 351.205(e), the petitioner stated the reasons for requesting a postponement of the preliminary determinations, and Commerce finds no compelling reason to deny the requests. Therefore, in accordance with section 703(c)(1)(A) of the Act, Commerce is postponing the deadline for the preliminary determinations to no later than 130 days after the date on which this investigation was initiated, i.e., October 7, 2019.⁵ Pursuant to section 705(a)(1) of the Act and 19 CFR 351.210(b)(1), the deadline for the final determinations of these investigations will continue to be 75 days after the date of the preliminary determinations.

⁵ The actual deadline is October 5, 2019. Because October 5, 2019 is a Saturday, the deadline for the preliminary determinations is Monday, October 7, 2019. See Notice of Clarification: Application of “Next Business Day” Rule for Administrative Determination Deadlines Pursuant to the Tariff Act of 1930, As Amended, 70 FR 24533 (May 10, 2005).

Notification to Interested Parties

This notice is issued and published pursuant to section 703(c)(2) of the Act and 19 CFR 351.205(f)(1).

Dated: June 27, 2019.
Jeffrey I. Kessler,
Assistant Secretary for Enforcement and Compliance.

[FR Doc. 2019-14235 Filed 7-2-19; 8:45 am]

BILLING CODE 3510-DS-P